DEPARTMENT OF AGRICULTURE

Rural Business-Cooperative Service

Notice of Funds Availability (NOFA) Inviting Applications for the Rural Energy for America Program

AGENCY: Rural Business-Cooperative Service, USDA.

ACTION: Notice of funding availability.

SUMMARY: This Notice announces the acceptance of applications for funds available under the Rural Energy for America Program (REAP) for Fiscal Year 2011 for financial assistance as follows: grants, guaranteed loans, and combined grants and guaranteed loans for the development and construction of renewable energy systems and for energy efficiency improvement projects; grants for conducting energy audits; grants for conducting renewable energy development assistance; and grants for conducting renewable energy system feasibility studies. The Notice also announces the availability of $70 million of Fiscal Year 2011 budget authority to fund these REAP activities, which will support at least $42 million in grant program level and up to $61 million in guaranteed loan program level. If additional funding becomes available by a Fiscal Year 2011 Appropriations Act, a subsequent NOFA will be published in the Federal Register.

DATES: In order to be considered for Fiscal Year 2011 funds, complete applications under this Notice must be received by the appropriate USDA Rural Development State Office no later than 4:30 p.m. local time of the dates as follows:

For renewable energy system and energy efficiency improvement grant applications and combination grant and guaranteed loan applications: June 15, 2011.

For renewable energy system and energy efficiency improvement guaranteed loan only applications: June 15, 2011.

For renewable energy system feasibility study applications: June 30, 2011.

For energy audits and renewable energy development assistance applications: June 30, 2011.

ADDRESSES: See the SUPPLEMENTARY INFORMATION for addresses concerning applications for the Rural Energy for America Program for Fiscal Year 2011 funds.

FOR FURTHER INFORMATION CONTACT: For information about this Notice, please contact Mr. Kelley Oehler, Branch Chief, USDA Rural Development, Energy Division, 1400 Independence Avenue, SW., Washington, DC 20250. Telephone: (202) 720-6819. E-mail: kelley.oehler@wdc.usda.gov.

For further information on this program, please contact the applicable USDA Rural Development Energy Coordinator for your respective State, as provided in the Supplementary Information section of this Notice.

SUPPLEMENTARY INFORMATION:

Fiscal Year 2011 Applications for the Rural Energy for America Program

Applications. Application materials may be obtained by contacting one of Rural Development's Energy Coordinators. In addition, for grant applications, applicants may access the electronic grant application for the Rural Energy for America Program at http://www.Grants.gov. To locate the downloadable application package for this program, the applicant must use the program's Catalog of Federal Domestic Assistance (CFDA) Number 10.868 or FedGrants Funding Opportunity Number, which can be found at http://www.Grants.gov.

Application submittal. For renewable energy system, energy efficiency improvement, and feasibility study applications, submit complete paper applications to the Rural Development State Office in the State in which the applicant's proposed project is located. For energy audit and renewable energy development assistance applications, submit complete paper applications to the Rural Development State Office in the State in which the applicant's principal office is located.

Submit electronic grant only applications at http://www.grants.gov, following the instructions found on this Web site.

Rural Development Energy Coordinators

Note: Telephone numbers listed are not toll-free.

Alabama

Quinton Harris, USDA Rural Development, Sterling Centre, Suite 601, 4121 Carmichael Road, Montgomery, AL 36106-3683, (334) 279-3623, Quinton.Harris@al.usda.gov.

Alaska

Chad Stovall, USDA Rural Development, 800 West Evergreen, Suite 201, Palmer, AK 99645-6539, (907) 761-7718, chad.stovall@ak.usda.gov.

American Samoa (See Hawaii)

Arizona

Alan Watt, USDA Rural Development, 230 North First Avenue, Suite 206, Phoenix, AZ 85003-1706, (602) 280-8769, Alan.Watt@az.usda.gov.

Arkansas

Tim Smith, USDA Rural Development, 700 West Capitol Avenue, Room 3416, Little Rock, AR 72201-3225, (501) 301-3280, Tim.Smith@ar.usda.gov.

California

Philip Brown, USDA Rural Development, 430 G Street, #4169, Davis, CA 95616, (530) 792-5811, Phil.brown@ca.usda.gov.

Colorado

Jerry Tamlin, USDA Rural Development, 655 Parfet Street, Room E-100, Lakewood, CO 80215, (720) 544-2907, Jerry.Tamlin@co.usda.gov.

Commonwealth of the Northern Marianas Islands-CNMI (See Hawaii)

Connecticut (see Massachusetts)

Delaware/Maryland

Bruce Weaver, USDA Rural Development, 1221 College Park Drive, Suite 200, Dover, DE 19904, (302) 857-3626, Bruce.Weaver@de.usda.gov.

Federated States of Micronesia (See Hawaii)

Florida/Virgin Islands

Matthew Wooten, USDA Rural Development, 4440 NW. 25th Place, Gainesville, FL 32606, (352) 338-3486, Matthew.wooten@fl.usda.gov.

Georgia

J. Craig Scroggs, USDA Rural Development, 111 E. Spring St., Suite B, Monroe, GA 30655, Phone 770-267-1413 ext. 113, craig.scroggs@ga.usda.gov.

Guam (See Hawaii)

Hawaii/Guam/Republic of Palau/Federated States of Micronesia/Republic of the Marshall Islands/American Samoa/Commonwealth of the Northern Marianas Islands—CNMI

Tim O'Connell, USDA Rural Development, Federal Building, Room 311, 154 Waianuenue Avenue, Hilo, HI 96720, (808) 933-8313, Tim.Oconnell@hi.usda.gov.

Idaho

Brian Buch, USDA Rural Development, 9173 W. Barnes Drive, Suite A1, Boise, ID 83709, (208) 378-5623, Brian.Buch@id.usda.gov.

Illinois

Molly Hammond, USDA Rural Development, 2118 West Park Court, Suite A, Champaign, IL 61821, (217) 403-6210, Molly.Hammond@il.usda.gov.

Indiana

Jerry Hay, USDA Rural Development, 5975 Lakeside Boulevard, Indianapolis, IN 46278, (812) 346-3411, Ext. 126, Jerry.Hay@in.usda.gov.

Iowa

Teresa Bomhoff, USDA Rural Development, 873 Federal Building, 210 Walnut Street, Des Moines, IA 50309, (515) 284-4447, teresa.bomhoff@ia.usda.gov.

Kansas

David Kramer, USDA Rural Development, 1303 SW. First American Place, Suite 100, Topeka, KS 66604-4040, (785) 271-2730, david.kramer@ks.usda.gov.

Kentucky

Scott Maas, USDA Rural Development, 771 Corporate Drive, Suite 200, Lexington, KY 40503, (859) 224-7435, scott.maas@ky.usda.gov.

Louisiana

Kevin Boone, USDA Rural Development, 905 Jefferson Street, Suite 320, Lafayette, LA 70501, (337) 262-6601, Ext. 133, Kevin.Boone@la.usda.gov.

Maine

John F. Sheehan, USDA Rural Development, 967 Illinois Avenue, Suite 4, P.O. Box 405, Bangor, ME 04402-0405, (207) 990-9168, john.sheehan@me.usda.gov.

Maryland (see Delaware)

Massachusetts/Rhode Island/Connecticut

Charles W. Dubuc, USDA Rural Development, 451 West Street, Suite 2, Amherst, MA 01002, (401) 826-0842 x 306, Charles.Dubuc@ma.usda.gov.

Michigan

Traci J. Smith, USDA Rural Development, 3001 Coolidge Road, Suite 200, East Lansing, MI 48823, (517) 324-5157, Traci.Smith@mi.usda.gov.

Minnesota

Lisa L. Noty, USDA Rural Development, 1400 West Main Street, Albert Lea, MN 56007, (507) 373-7960 Ext. 120, lisa.noty@mn.usda.gov.

Mississippi

G. Gary Jones, USDA Rural Development, Federal Building, Suite 831, 100 West Capitol Street, Jackson, MS 39269, (601) 965-5457, george.jones@ms.usda.gov.

Missouri

Matt Moore, USDA Rural Development, 601 Business Loop 70 West, Parkade Center, Suite 235, Columbia, MO 65203, (573) 876-9321, matt.moore@mo.usda.gov.

Montana

Michael Drewiske, USDA Rural Development, 2229 Boot Hill Court, Bozeman, MT 59715-7914, (406) 585-2554, Michael.drewiske@mt.usda.gov.

Nebraska

Debra Yocum, USDA Rural Development, 100 Centennial Mall North, Room 152, Federal Building, Lincoln, NE 68508, (402) 437-5554, Debra.Yocum@ne.usda.gov.

Nevada

Mark Williams, USDA Rural Development, 1390 South Curry Street, Carson City, NV 89703, (775) 887-1222, mark.williams@nv.usda.gov.

New Hampshire (See Vermont)

New Jersey

Victoria Fekete, USDA Rural Development, 8000 Midlantic Drive, 5th Floor North, Suite 500, Mt. Laurel, NJ 08054, (856) 787-7752, Victoria.Fekete@nj.usda.gov.

New Mexico

Jesse Bopp, USDA Rural Development, 6200 Jefferson Street, NE., Room 255, Albuquerque, NM 87109, (505) 761-4952, Jesse.bopp@nm.usda.gov.

New York

Scott Collins, USDA Rural Development, 9025 River Road, Marcy, NY 13403, (315) 736-3316 Ext. 4, scott.collins@ny.usda.gov.

North Carolina

David Thigpen, USDA Rural Development, 4405 Bland Rd. Suite 260, Raleigh, NC 27609, 919-873-2065, David.Thigpen@nc.usda.gov.

North Dakota

Dennis Rodin, USDA Rural Development, Federal Building, Room 208, 220 East Rosser Avenue, P.O. Box 1737, Bismarck, ND 58502-1737, (701) 530-2068, Dennis.Rodin@nd.usda.gov.

Ohio

Randy Monhemius, USDA Rural Development, Federal Building, Room 507, 200 North High Street, Columbus, OH 43215-2418, (614) 255-2424, Randy.Monhemius@oh.usda.gov.

Oklahoma

Jody Harris, USDA Rural Development, 100 USDA, Suite 108, Stillwater, OK 74074-2654, (405) 742-1036, Jody.harris@ok.usda.gov.

Oregon

Don Hollis, USDA Rural Development, 200 SE. Hailey Ave, Suite 105, Pendleton, OR 97801, (541) 278-8049, Ext. 129, Don.Hollis@or.usda.gov.

Pennsylvania

Bob Schoenfeldt, USDA Rural Development, 14699 North Main Street Ext., Meadville, PA 16335, (814) 336-6155, Ext. 114, robert.schoenfeldt@pa.usda.gov.

Puerto Rico

Luis Garcia, USDA Rural Development, IBM Building, 654 Munoz Rivera Avenue, Suite 601, Hato Rey, PR 00918-6106, (787) 766-5091, Ext. 251, Luis.Garcia@pr.usda.gov.

Republic of Palau (See Hawaii)

Republic of the Marshall Islands (See Hawaii)

Rhode Island (see Massachusetts)

South Carolina

Shannon Legree, USDA Rural Development, Strom Thurmond Federal Building, 1835 Assembly Street, Room 1007, Columbia, SC 29201, (803) 253-3150, Shannon.Legree@sc.usda.gov.

South Dakota

Kenneth Lynch, USDA Rural Development, Federal Building, Room 210, 200 4th Street, SW., Huron, SD 57350, (605) 352-1120, ken.lynch@sd.usda.gov.

Tennessee

Will Dodson, USDA Rural Development, 3322 West End Avenue, Suite 300, Nashville, TN 37203-1084, (615) 783-1350, will.dodson@tn.usda.gov.

Texas

Billy Curb, USDA Rural Development, Federal Building, Suite 102, 101 South Main Street, Temple, TX 76501, (254) 742-9775, billy.curb@tx.usda.gov.

Utah

Roger Koon, USDA Rural Development, Wallace F. Bennett Federal Building, 125 South State Street, Room 4311, Salt Lake City, UT 84138, (801) 524-4301, Roger.Koon@ut.usda.gov.

Vermont/New Hampshire

Cheryl Ducharme, USDA Rural Development, 89 Main Street, 3rd Floor, Montpelier, VT 05602, 802-828-6083, cheryl.ducharme@vt.usda.gov.

Virginia

Laurette Tucker, USDA Rural Development, Culpeper Building, Suite 238, 1606 Santa Rosa Road, Richmond, VA 23229, (804) 287-1594, Laurette.Tucker@va.usda.gov.

Virgin Islands (see Florida)

Washington

Mary Traxler, USDA Rural Development, 1835 Black Lake Blvd. SW., Suite B, Olympia, WA 98512, (360) 704-7762, Mary.Traxler@wa.usda.gov.

West Virginia

Richard E. Satterfield, USDA Rural Development, 75 High Street, Room 320, Morgantown, WV 26505-7500, (304) 284-4874, Richard.Satterfield@wv.usda.gov.

Wisconsin

Brenda Heinen, USDA Rural Development, 4949 Kirschling Court, Stevens Point, WI 54481, (715) 345-7615, Ext. 139, Brenda.Heinen@wi.usda.gov.

Wyoming

Jon Crabtree, USDA Rural Development, Dick Cheney Federal Building, 100 East B Street, Room 1005, P.O. Box 11005, Casper, WY 82602, (307) 233-6719, Jon.Crabtree@wy.usda.gov.

Paperwork Reduction Act

In accordance with the Paperwork Reduction Act of 1995, the information collection requirements associated with renewable energy system and energy efficiency improvement grants and guaranteed loans, as covered in this Notice, has been approved by the Office of Management and Budget (OMB) under OMB Control Number 0570-0050. The information collection requirements associated with energy audit and renewable energy development assistance grants and with renewable energy feasibility study grants have also been approved by OMB under OMB Control Number 0570-0059 and OMB Control Number 0570-0061, respectively.

Overview

Federal Agency Name: Rural Business-Cooperative Service.

Contract Proposal Title: Rural Energy for America Program.

Announcement Type: Initial announcement.

Catalog of Federal Domestic Assistance Number. 10.868.

Dates: Grant applications and combined grant and guaranteed loan applications for renewable energy systems and energy efficiency improvement projects under this Notice will be accepted up to June 15, 2011. Guaranteed loan only applications for renewable energy system and energy efficiency improvement projects will be accepted on a continuous basis, but to compete for FY 2011 funding, complete applications must be submitted to the Agency by June 15, 2011. Applications for renewable energy feasibility studies, energy audits, and renewable energy development assistance grants will be accepted up to June 30, 2011.

For all applications submitted under this Notice, complete applications must be received by the appropriate USDA Rural Development State Office no later than 4:30 p.m. local time of the applicable application deadline date in order to be considered for Fiscal Year 2011 funds. Any application received after its applicable date and time, regardless of the postmark on the application, will not be considered for Fiscal Year 2011 funds.

Availability of Notice. This Notice for the Rural Energy for America Program is available on the USDA Rural Development Web site at http://www.rurdev.usda.gov/rbs/farmbill/index.html.

I. Funding Opportunity Description

A. Purpose of the Rural Energy for America Program. This Notice is issued pursuant to section 9001 of the Food, Conservation, and Energy Act of 2008 (2008 Farm Bill), which amends Title IX of the Farm Security and Rural Investment Act of 2002 (2002 Farm Bill) and establishes the Rural Energy for America Program under section 9007 thereof. The program is designed to help agricultural producers and rural small businesses reduce energy costs and consumption and help meet the Nation's critical energy needs.

B. Statutory Authority. This program is authorized under 7 U.S.C. 8107.

C. Definition of Terms. The definitions applicable to this Notice are published at 7 CFR 4280.103. In addition, the following definition of “hybrid” applies to this Notice.

Hybrid. A combination of two or more renewable energy technologies that are incorporated into a unified system to support a single project.

II. Award Information

A. Available funds: The amount of grant funds available for energy audits and renewable energy development assistance in Fiscal Year 2011 is approximately $2.8 million. The amount of grant funds available for renewable energy system feasibility studies in Fiscal Year 2011 is $2.0 million. The budget authority available for renewable energy system and energy efficiency improvement projects in Fiscal Year 2011 is $51.2 million. For renewable energy system and energy efficiency improvement projects only, there will be an allocation of funds to each State, and the Rural Development's National Office will maintain a reserve of funds.

In order to ensure that small projects have a fair opportunity to compete for the funding and are consistent with the priorities set forth in the statute, the Agency will set-aside $14 million of the $70 million budget authority available to fund grants of $20,000 or less.

B. Approximate number of awards: The number of awards will depend on the number of eligible applicants participating in this program.

C. State and National competitions. Renewable energy system and energy efficiency improvement applications for Fiscal Year 2011 funds will compete for funds allocated to their State (State competition) as described under the competition deadline in this Notice. All unfunded eligible State applications will be competed against other applications from other States at a final National competition. Separate competitions will be held on guaranteed loan only applications and on grant only and grant and guaranteed loan combination applications for both State and National competitions. If funds remain after the National guaranteed loan only application competition, the Agency may elect to utilize budget authority to fund additional grant only and grant and guaranteed loan combination applications in the National competition.

D. Type of instrument. Grant, guaranteed loan, and grant/guaranteed loan combinations.

E. Funding limitations. The following funding limitations apply to applications submitted under to this Notice.

(1) Maximum grant assistance to an individual or entity. For the purposes of this Notice, the maximum amount of grant assistance to one individual or entity will not exceed $750,000 for Fiscal Year 2011 based on the total amount of renewable energy system, energy efficiency improvement, and renewable energy feasibility study grants awarded to the individual or entity under the Rural Energy for America Program.

(2) Maximum percentage of Agency funding. The 2008 Farm Bill mandates the maximum percentages of funding that USDA Rural Development will provide. Within the maximum funding amounts specified in this Notice, renewable energy system and energy efficiency improvement funding approved for guaranteed loan only requests and for combination guaranteed loan and grant requests will not exceed 75 percent of eligible project costs, with the grant portion not to exceed 25 percent of total eligible project costs, whether the grant is part of a combination request or is a stand-alone grant.

(3) Reallocation of grants funds. Based on the quality of the applications received under this Notice and subject to statutory limitations, the Agency reserves the right, at its discretion, to move funds among the various grant allocations identified under Section II.A. of this Notice.

(4) Renewable energy system and energy efficiency improvement grant-only applications. For renewable energy system grants, the minimum grant is $2,500 and the maximum is $500,000. For energy efficiency improvement grants, the minimum grant is $1,500 and the maximum grant is $250,000.

(5) Renewable energy system and energy efficiency improvement loan guarantee-only applications. For renewable energy system and energy efficiency improvement loan guarantees, the minimum guaranteed loan amount is $5,000 and the maximum amount of a guarantee to be provided to a borrower is $25 million.

(6) Renewable energy system and energy efficiency improvement guaranteed loan and grant combination applications. Funding for grant and loan combination packages for renewable energy systems and energy efficiency improvement projects are subject to the funding limitations specified in Section II.E.(2). The maximum amount for the grant portion is $500,000 for renewable energy systems and $250,000 for energy efficiency improvements. The minimum amount of the grant portion is $1,500 for either renewable energy systems or energy efficiency improvements. For the guarantee portion, the maximum amount is $25 million and the minimum amount is $5,000.

(7) Renewable energy system feasibility study grant applications. The maximum amount of grant funds that will be made available for an eligible feasibility study project under this subpart to any one recipient will not exceed $50,000 or 25 percent of the total eligible project cost of the study, whichever is less.

(8) Energy audit and renewable energy development assistance grant applications. The maximum aggregate amount of energy audit and renewable energy development assistance grants awarded to any one recipient under this Notice cannot exceed $100,000. In addition, the 2008 Farm Bill mandates that the recipient of a grant that conducts an energy audit for an agricultural producer or a rural small business require the agricultural producer or rural small business to pay at least 25 percent of the cost of the energy audit, which shall be retained by the eligible entity for the cost of the audit.

III. Eligibility Information

A. Eligible applicants. To be eligible for this program, an applicant must meet the eligibility requirements specified in 7 CFR 4280.109, 7 CFR 4280.110(c), and, as applicable, 7 CFR 4280.112, 7 CFR 4280.122, 7 CFR 4280.170, or 7 CFR 4280.186.

B. Eligible lenders. To be eligible for this program, lenders must meet the eligibility requirements in 7 CFR 4280.130.

C. Eligible projects. To be eligible for this program, a project must meet the eligibility requirements specified in 7 CFR 4280.113, 7 CFR 4280.123, 7 CFR 4280.171, and 7 CFR 4280.187, as applicable.

IV. Fiscal Year 2011 Application and Submission Information

Applicants seeking to participate in this program must submit applications in accordance with this Notice and 7 CFR part 4280, subpart B, as applicable. Applicants must submit complete applications in order to be considered.

A. Where To Obtain Applications

Applicants may obtain applications from any USDA Rural Development Energy Coordinator, as provided in the ADDRESSES section of this Notice. In addition, for grant applications, applicants may access the electronic grant application for the Rural Energy for America Program at http://www.Grants.gov. To locate the downloadable application package for this program, the applicant must use the program's CFDA Number 10.868 or FedGrants Funding Opportunity Number, which can be found at http://www.Grants.gov.

When you enter the Grants.gov site, you will find information about submitting an application electronically through the site. To use Grants.gov, all applicants must have a Dun and Bradstreet Data Universal Numbering System (DUNS) number (unless the applicant is an individual), which can be obtained at no cost via a toll-free request line at 1-866-705-5711 or online at http://fedgov.dnb.com/webform. USDA Rural Development strongly recommends that applicants do not wait until the application deadline date to begin the application process through Grants.gov.

B. When To Submit

Renewable Energy System and Energy Efficiency Improvement Grant and Combined Grant and Guaranteed Loan Applications. Grant applications and combined grant and guaranteed loan applications for renewable energy systems and energy efficiency improvement projects under this Notice will be accepted up to June 15, 2011. Complete applications under this Notice must be received by the appropriate USDA Rural Development State Office no later than 4:30 p.m. local time on June 15, 2011, in order to be considered for Fiscal Year 2011 funds. Any application received after this date and time, regardless of the postmark on the application, will not be considered for Fiscal Year 2011 funds.

Renewable Energy System and Energy Efficiency Improvement Guaranteed Loan Only Applications. Guaranteed loan only applications for renewable energy system and energy efficiency improvement projects will be accepted on a continuous basis, but to be considered for Fiscal Year 2011 funds, complete applications must be received by the appropriate USDA Rural Development State Office no later than 4:30 p.m. local time on June 15, 2011. Any application received after this date and time, regardless of the postmark on the application, will be considered for Fiscal Year 2012 funds.

Renewable Energy System Feasibility Study Applications. Applications for RES feasibility study grants under this Notice will be accepted up to June 30, 2011. Complete applications under this Notice must be received at the appropriate State Office by 4:30 p.m. local time on June 30, 2011, in order to be considered for Fiscal Year 2011 funds. Any application received after this date and time, regardless of the application's postmark, will not be considered for Fiscal Year 2011 funds.

Energy Audits and Renewable Energy Development Assistance Applications. Applications for EA and REDA grants under this Notice will be accepted up to June 30, 2011. Complete applications under this Notice must be received at the appropriate State Office by 4:30 p.m. local time on June 30, 2011, in order to be considered for Fiscal Year 2011 funds. Any application received after this date and time, regardless of the application's postmark, will not be considered for Fiscal Year 2011 funds.

C. Where To Submit

All renewable energy system, energy efficiency improvement, and renewable energy system feasibility study applications are to be submitted to the USDA Rural Development Energy Coordinator in the State in which the applicant's proposed project is located. All energy audit and renewable energy development assistance applications are to be submitted to the USDA Rural Development Energy Coordinator in the State in which the applicant's principal office is located. A list of USDA Rural Development Energy Coordinators is provided in the ADDRESSES section of this Notice. Alternatively, for grant only applications, applicants may submit their electronic applications to the Agency via the Grants.gov Web site.

D. How To Submit

Applicants may submit their applications either as hard copy or electronically as specified in the following paragraphs. When submitting an application as hard copy, applicants must submit one original and one copy of the complete application.

(1) Grant applications. All grant applications may be submitted either as hard copy to the appropriate Rural Development Energy Coordinator or electronically using the Government-wide Grants.gov Web site. Users of Grants.gov who download a copy of the application package may complete it off line and then upload and submit the application via the Grants.gov site, including all information typically included on the application, and all necessary assurances and certifications. After electronically submitting an application through the Web site, the applicant will receive an automated acknowledgement from Grants.gov that contains a Grants.gov tracking number.

(2) Guaranteed loan applications. Guaranteed loan only applications (i.e., those that are not part of a guaranteed loan/grant combination request) must be submitted as hard copy.

(3) Guaranteed loan/grant combination applications. Applications for guaranteed loans/grants (combination applications) must be submitted as hard copy.

E. Other Submission Requirements and Information

(1) Application restrictions. Applicants may apply for only one renewable energy system project and one energy efficiency improvement project in Fiscal Year 2011. A renewable energy system application cannot be submitted in Fiscal Year 2011 if a REAP feasibility study grant application for the same renewable energy system is submitted in Fiscal Year 2011 and vice versa.

Applicants may apply for only one renewable energy system feasibility study grant under this Notice for Fiscal Year 2011 funds.

Applicants may only submit one energy audit grant application and one renewable energy development assistance grant application for Fiscal Year 2011 funds.

(2) Environmental information. For the Agency to consider an application, the application must include all environmental review documents with supporting documentation in accordance with 7 CFR part 1940, subpart G. Applications for financial assistance for planning purposes or management and feasibility studies are typically categorically excluded from the environmental review process by 7 CFR 1940.310(e)(1).

(3) Original signatures. USDA Rural Development may request that the applicant provide original signatures on forms submitted through Grants.gov at a later date.

(4) Award considerations. In determining the amount of a renewable energy system or energy efficiency improvement grant or loan guarantee, the Agency will consider the six criteria specified in 7 CFR 4280.115(g) or 7 CFR 4280.124(f), as applicable.

(5) Hybrid projects. If the application is for a hybrid project, technical reports, as required under 7 CFR 4280.116(b)(7), must be prepared for each technology that comprises the hybrid project.

(6) Multiple facilities. Applicants may submit a single application that proposes to apply the same renewable energy system (including the same hybrid project) or energy efficiency improvement across multiple facilities. For example, a rural small business owner owns five retail stores and wishes to install solar panels on each store. The rural small business owner may submit a single application for installing the solar panels on the five stores. However, if this same owner wishes to install solar panels on three of the five stores and wind turbines for the other two stores, the owner can only submit an application for either the solar panels or for the wind turbines in the same fiscal year.

V. Program Provisions

This section of the Notice identifies the provisions of the interim rule applicable to each type of funding available under REAP.

A. General

The provisions specified in 7 CFR 4280.101 through 4280.111 apply to this Notice.

B. Renewable Energy System and Energy Efficiency Improvement Project Grants

In addition to the other provisions of this Notice, the requirements specified in 7 CFR 4280.112 through 4820.121 apply to renewable energy system and energy efficiency improvement projects grants.

C. Renewable Energy System and Energy Efficiency Improvement Project Guaranteed Loans

In addition to the other provisions of this Notice, the requirements specified in 7 CFR 4280.122 through 4820.160 apply to guaranteed loans for renewable energy system and energy efficiency improvement projects. For Fiscal Year 2011, the guarantee fee amount is 1 percent of the guaranteed portion of the loan and the annual renewal fee is 0.250 percent (one-quarter of one percent) of the guaranteed portion of the loan.

D. Renewable Energy System and Energy Efficiency Improvement Project Grant and Guaranteed Loan Combined Requests

In addition to the other provisions of this Notice, the requirements specified in 7 CFR 4280.165 apply to a combined grant and guaranteed loan for renewable energy system and energy efficiency improvement projects.

E. Renewable Energy System Feasibility Study Grants

In addition to the other provisions of this Notice, the requirements specified in 7 CFR 4280.170 through 4820.182 apply to renewable energy system feasibility study grants.

F. Energy Audit and Renewable Energy Development Assistance Grants

In addition to the other provisions of this Notice, the requirements specified in 7 CFR 4280.186 through 4820.196 apply to energy audit and renewable energy development assistance grants.

G. Resubmittal of Fiscal Year 2010 Renewable Energy System and Energy Efficiency Improvement Applications

If an applicant or lender submitted an application for funding in Fiscal Year 2010 and that application was determined eligible but was not funded, the Agency will consider that Fiscal Year 2010 application for funding in Fiscal Year 2011 as provided in this section.

(1) Written request. An applicant or lender must submit a written request for the Agency to consider its Fiscal Year 2010 application for Fiscal Year 2011 funds. For a guarantee loan and grant combination application, both the lender and applicant must submit the written request to the Agency in order to be considered for Fiscal Year 2011 funds.

(i) Except for simplified applications, applicants must provide current financial statements that meet the program requirements outlined in 7 CFR 4280.116(b)(4) with the written request.

(ii) Written requests to consider Fiscal Year 2010 applications for Fiscal Year 2011 funds may be submitted at any time during Fiscal Year 2011 up to and including 4:30 pm local time on June 15, 2011, to be considered for Fiscal Year 2011 funds. Written requests received after this time and date will not be accepted by the Agency and the applicant's Fiscal Year 2010 application will not be considered for Fiscal Year 2011 funds.

(2) Revisions to Fiscal Year 2010 applications. If an applicant makes any revision to its Fiscal Year 2010 application that are not necessitated by the REAP interim rule, a new application meeting the requirements of this Notice must be submitted in order to be considered for Fiscal Year 2011 funds and a new date the complete application was received will be recorded. However, if a revision to the Fiscal Year 2010 application is necessitated by the REAP interim rule or the Agency requests an update of information in the original application (for example, required current financial statements), there will be no change in the date the complete application was received.

(3) No revisions to Fiscal Year 2010 applications. If an applicant does not plan to make any revisions to its Fiscal Year 2010 application, a new application is not required and the date the complete application was received remains unchanged from its original Fiscal Year 2010 receipt date.

H. Award Process. In addition to the process for awarding funding under 7 CFR 4280, subpart B, the Agency will make awards using the following considerations:

(1) Funding renewable energy system and energy efficiency improvement grant and grant/guaranteed loan awards. Considering the availability of funds, the Agency will fund those grant only applications and grant/guaranteed loan applications that score the highest based on the grant score of the application; that is, the grant score an application receives will be compared to the grant scores of other applications, with higher scoring applications receiving first consideration for funding.

(2) Guaranteed loan only awards. Considering the availability of funds, the Agency will fund those guaranteed loan only applications that score the highest compared to the scores of other applications, with higher scoring applications receiving first consideration for funding.

(3) Evaluation criteria. Agency personnel will score each application based on the evaluation criteria specified in 7 CFR 4280.117(c), 7 CFR 4280.129(c), 7 CFR 4280.178, or 7 CFR 4280.192, as applicable.

For hybrid applications, each technical report will be evaluated and scored based on its own merit. The scores for the technologies will be consolidated using a weighted average approach based on the percentage of the cost for each system to the total project cost.

Example: A hybrid project contains a wind and solar photovoltaic components. The wind system will cost the $30,000 (75 percent of total eligible project cost) and the solar will cost $10,000 (25 percent of total eligible project cost). The wind technical report was evaluated and assigned a total score of 22 points, while the solar report was evaluated and assigned a total score of 31 points. In this scenario, the final technical score would be assigned as follows: (22 × 75 percent) + (31 × 25 percent) = 24.25.

(4) Applications that receive the same score. If applications score the same and if remaining funds are insufficient to fund each such application, the Agency will distribute the remaining funds to each such application on a pro-rata basis.

VI. Administration Information

A. Notifications

(1) Applicants. The notification provisions of 7 CFR 4280.111 apply to this Notice.

(2) Lenders. The notification provisions of 7 CFR 4280.129(a) apply to this Notice.

B. Administrative and National Policy requirements

(1) Exception authority. The provisions of 7 CFR 4280.104 apply to this Notice.

(2) Appeals. A person may seek a review of an Agency decision or appeal to the National Appeals Division in accordance with 7 CFR 4280.105.

(3) Conflict of interest. The provisions of 7 CFR 4280.106 apply to this Notice.

(4) USDA Departmental Regulations and other laws that contains other compliance requirements. The provisions of 7 CFR 4280.107 and 7 CFR 4280.108 apply to this Notice.

VII. Agency Contacts

For assistance on this program, please contact a USDA Rural Development Energy Coordinator, as provided in the Addresses section of this Notice.

VIII. Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Adjudication and Compliance, 1400 Independence Avenue SW., Washington, DC 20250-9410 or call (800) 795-3272 (voice) or (202) 720-6382 (TDD). USDA is an equal opportunity provider, employer, and lender.

Dated: April 1, 2011.
Dallas Tonsager,
Under Secretary, Rural Development.

[FR Doc. 2011-8456 Filed 4-13-11; 8:45 am]

BILLING CODE 3410-XY-P